DEPARTMENT OF AGRICULTURE

Grain Inspection, Packers and Stockyards Administration

Designation for the Muncie (IN), Fremont (NE), Savage (MN), and West Lafayette (IN) Areas

AGENCY: Grain Inspection, Packers and Stockyards Administration, USDA.

ACTION: Notice.

SUMMARY: We are announcing designation of the following organizations to provide official services under the United States Grain Standards Act, as amended (USGSA): East Indiana Grain Inspection, Inc. (East Indiana); Fremont Grain Inspection Department, Inc. (Fremont); State Grain Inspection, Inc. (State Grain); and Titus Grain Inspection, Inc. (Titus).

EFFECTIVE DATE: July 1, 2007.

FOR FURTHER INFORMATION CONTACT: Karen Guagliardo at 202-720-7312, e-mail Karen.W.Guagliardo@usda.gov.

SUPPLEMENTARY INFORMATION: In the December 8, 2006, Federal Register (71 FR 71122-71124), we requested applications for designation to provide official services in the geographic areas assigned to the official agencies named above. Applications were due by January 8, 2007.

There were two applicants for the Savage area: State Grain and Mid-Iowa Grain Inspection, Inc. (Mid-Iowa); both currently designated official agencies. State Grain and Mid-Iowa applied for all or part of the counties announced in the December 8, 2006, Federal Register. GIPSA asked for comments on State Grain and Mid-Iowa in the March 2, 2007, Federal Register (72 FR 9502). Comments were due by April 2, 2007. GIPSA received a total of 8 comments by the closing date. We received 3 comments supporting Mid-Iowa for designation: 1 of which were from grain companies in the area and 2 from other official agencies. GIPSA received 5 comments supporting State Grain for designation; 2 of which were from grain companies, 2 from grain industry in the area, and 1 from an exporter.

East Indiana, Fremont, and Titus were the sole applicants for designation to provide official services in the entire area currently assigned to them, so GIPSA did not ask for additional comments on them.

We evaluated all available information regarding the designation criteria in Section 7(f)(l)(A) of USGSA (7 U.S.C. 79 (f)) and Section 7(f)(l)(B), determined that East Indiana, Fremont, and Titus are able to provide official services and that State Grain is better able to provide official services in the geographic areas specified in the December 8, 2006, Federal Register, for which they applied. These designation actions to provide official services are effective July 1, 2007, and terminate June 30, 2010, for East Indiana, Fremont, and Titus. State Grain is designated for only 18 months, effective July 1, 2007, and terminating December 31, 2008. Interested persons may obtain official services by calling the telephone numbers listed below.

Official agency | Headquarters location and telephone | Designation start-end
East Indiana | Muncie, IN, 765-289-1206 | 7/01/2007-6/30/2010
Fremont | Fremont, NE, 402-721-1270 Additional locations: Denison, IA | 7/01/2007-6/30/2010
State Grain | Savage, MN, 952-808-8566 | 7/01/2007-12/31/2008
Titus | West Lafayette, IN 765-497-2202 | 7/01/2007-6/30/2010

Authority: 7 U.S.C. 71 et seq.

James E. Link,
Administrator , Grain Inspection, Packers and Stockyards Administration.

[FR Doc. 07-2720 Filed 5-30-07; 8:45 am]

BILLING CODE 3410-KD-U